DEPARTMENT OF HOMELAND SECURITY

Coast Guard

[Docket No. USCG-2020-0172]

Port Access Route Study: Seacoast of New Jersey Including Offshore Approaches to the Delaware Bay, Delaware

AGENCY: Coast Guard, DHS.

ACTION: Notice of public meeting; request for comments.

SUMMARY: The Coast Guard is announcing two public meetings to discuss our notice of study entitled “Port Access Route Study: Seacoast of New Jersey including the offshore approaches to the Delaware Bay, Delaware” that was published in the Federal Register on May 5, 2020, (USCG-2020-0172) and our notice of inquiry entitled “Anchorage Grounds; Delaware Bay and Atlantic Ocean, Delaware” that was published in the Federal Register on November 29, 2019, (USCG-2019-0822). Because the public may have similar comments on both topics we have decided to hold joint public meetings to discuss both notices. To ensure adequate opportunity to address concerns raised at the meetings and any subsequent questions, the Coast Guard is reopening the comment period.

DATES: Interested members of the public can attend either session, via teleconference, on Thursday October 29, 2020, from 1 p.m. to 3 p.m. or on Wednesday November 4, 2020, from 6 p.m. to 8 p.m. All comments and related material must be received by the Coast Guard on or before November 10, 2020. If you want your comments to be considered before the public meetings, comments must be received by the Coast Guard on or before October 15, 2020.

ADDRESSES: The public meeting will be held via a web-enabled interactive, online format and teleconference line. To join the web-based meeting and teleconference or to request special accommodations, contact the individual listed in the FOR FURTHER INFORMATION CONTACT section no later than 1 p.m. on October 20, 2020, to obtain the needed information.

You may submit written comments identified by docket number USCG-2020-0172 using the Federal eRulemaking Portal at https://www.regulations.gov.

FOR FURTHER INFORMATION CONTACT: If you have questions about this notice, call or email Captain Maureen Kallgren, Fifth Coast Guard District, Waterways Management Branch, U.S. Coast Guard; telephone (757) 398-6250, email Maureen.R.Kallgren@uscg.mil or Mr. Jerry Barnes, Fifth Coast Guard District, Waterways Management Branch, U.S. Coast Guard; telephone (757) 398-6230, email Jerry.R.Barnes@uscg.mil. If you encounter technical difficulties accessing the online meeting please call LTJG John Frank, (757) 398-6298.

SUPPLEMENTARY INFORMATION:

I. Background

The Coast Guard is conducting the Port Access Route Study (PARS) to determine whether existing or additional vessel routing measures are necessary along the seacoast of New Jersey and approaches to the Delaware Bay. The PARS will consider whether existing or additional routing measures are necessary to improve navigational safety due to factors such as planned or potential offshore development, current port capabilities and planned improvements, increased vessel traffic, existing and potential anchorage areas, changing vessel traffic patterns, weather conditions, or navigational difficulty. We published a notice of study (NOS) in the Federal Register on May 5, 2020, entitled “Port Access Route Study: Seacoast of New Jersey Including Offshore Approaches to the Delaware Bay, Delaware. Previously, we published a notice of inquiry (NOI) in the Federal Register on November 29, 2019, entitled “Notice of Inquiry, Anchorage Grounds, Delaware Bay and Atlantic Ocean Delaware. As discussed in the NOI, the Coast Guard is considering amending its regulations to establish new anchorage grounds in the Delaware Bay and Atlantic Ocean. You may view the NOS and NOI in our online docket, in addition to comments submitted thus far by going to https://www.regulations.gov. Once there, insert “USCG-2020-0172” or “USCG-2019-0822” in the “Keyword” box and click “Search.”

The Coast Guard received several requests for a public meeting to discuss the NOS and NOIs. We have concluded that a public meeting would inform both of these studies; therefore, we are publishing this notice. We are placing a document into the docket for the NOI, USCG-2019-0822, alerting followers of that docket of this notice and the opportunity to submit comments.

The Coast Guard is seeking additional public input on current waterway uses in the study area. These comments will help inform and direct any future rulemaking as well as inform our input as a cooperating agency to the Bureau of Ocean Energy Management for offshore renewable energy installations.

II. Public Participation and Request for Comments

We encourage you to participate by submitting comments either orally at the meeting or in writing. Oral comments at the public meetings may be limited to 3 minutes per speaker based on registration. You can provide written comments by submitting them directly to the docket online or by emailing Captain Maureen Kallgren, Maureen.r.kallgren@uscg.mil. All comments received will be posted without change to https://www.regulations.gov and will include any personal information you have provided. We are particularly interested in specific comments on the following questions:

1. What proposed routing measures would you suggest to preserve shipping safety around and within the offshore wind energy areas?

2. What areas within the study area have you traditionally used for anchoring and why?

3. If fully developed, how will the offshore wind energy projects in the study area impact your anchoring practices or other waterway uses?

4. What other navigational concerns do you have regarding the proposed wind energy projects in the study area?

5. What alternatives for mitigating anchor damage to underground cables are available, and is it possible for underground cables to coexist within the anchorages?

6. Which fisheries do you primarily target that cause you to transit or fish in the study area?

7. While fishing offshore, how much time do you spend underway, making way versus how much time do you spend underway, not making way as a percentage of the overall time frame (for example, I spend 10% of the trip transiting to and from port, 70% engaged in fishing, and 20% setting or hauling back gear)?

8. What risk control measures would you propose during the construction and operations of the wind energy areas?

9. Where is the predominant recreational boating traffic within the study area? Is there a time of year that traffic is more prevalent?

Suggested comments are most helpful when they are specific and supported by industry data or consensus. We are seeking to ensure the data we have collected from past public comments, such as current vessel AIS data and stakeholder input, reflects the status of waterway use today. We suggest commenters review current data found on the Mid Atlantic Ocean Data Portal found at www.portal.midatlanticocean.org. This data portal collects and prepares a variety of source data for public use and analysis. All comments will inform our way forward to ensure a measured approach to balance the different uses of the waterway in the future.

Comments submitted after the meeting must reach the Coast Guard on or before November 10, 2020. We encourage you to submit comments through the Federal eRulemaking Portal at https://www.regulations.gov. If your material cannot be submitted using https://www.regulations.gov, contact the person in the FOR FURTHER INFORMATION CONTACT section of this document for alternate instructions.

Anyone can search the electronic form of comments received into any of our dockets by the name of the individual submitting the comment (or signing the comment, if submitted on behalf of an association, business, labor union, etc.). For more about privacy and submissions in response to this document, see DHS's eRulemaking System of Records notice (85 FR 14226, March 11, 2020).

The Coast Guard will hold public meetings regarding these studies via a webinar and teleconference. The Coast Guard prefers and highly encourages all comments and related material be submitted directly to the online public docket; however two virtual public meetings will be held to provide an opportunity for oral comments. The first virtual public meeting will be held on Thursday, October 29, 2020, at 1 p.m. The second virtual public meeting will be held on Wednesday, November 4, 2020 at 6 p.m. To join the web-based meeting and teleconference or to request special accommodations, contact the individual listed in the FOR FURTHER INFORMATION CONTACT section no later than 1 p.m. on October 20, 2020, to obtain the needed information. Access information for the virtual public meetings will be posted at https://www.navcen.uscg.gov. If you encounter technical difficulties, contact LTJG John Frank at 757-398-6298 or JohnR.Frank@uscg.mil. We will provide a written summary of the meeting and comments and will place that summary in the docket.

Dated: October 7, 2020.
L.M. Dickey,
Rear Admiral, U.S. Coast Guard, Commander, Fifth Coast Guard District.

[FR Doc. 2020-22540 Filed 10-9-20; 8:45 am]

BILLING CODE 9110-04-P